DEPARTMENT OF HOUSING AND URBAN DEVELOPMENT

[Docket No. FR-7034-N-42; OMB Control No. 2502-0562]

30-Day Notice of Proposed Information Collection: Manufactured Housing Dispute Resolution Program

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: August 25, 2021.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on May 7, 2021 at 87 FR 24654.

A. Overview of Information Collection

Title of Information Collection: Manufactured Housing Dispute Resolution Program.

OMB Approval Number: 2502-0562.

OMB Expiration Date: 08/31/2021.

Type of Request: Revision of a currently approved collection.

Form Numbers: HUD-310-DRSC; HUD-311-DR.

Description of the need for the information and proposed use: The state programs will file form HUD-310-DRSC. HUD uses the information on state certifications to determine whether the state programs comply with the minimum requirements set out in the regulations. Homeowners and industry respondents will use form HUD-311-DR. HUD uses the required information for screening that a defect that is properly alleged and timely reported under the Federal manufactured housing dispute resolution program.

Respondents: Individuals and households; State, Local or Tribal Government; Business or other for-profit.

Estimated Number of Respondents: 125.

Estimated Number of Responses: 125.

Frequency of Response: HUD-310-DRSC, one time for initial independent application by state, and then one time every three years for certain states; HUD-311-DR, one time per alleged defect.

Average Hours per Response: 1.

Total Estimated Burden: 125.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. Chapter 35.

Colette Pollard,
Department Reports Management Officer, Office of the Chief Information Officer.

[FR Doc. 2021-15774 Filed 7-23-21; 8:45 am]

BILLING CODE 4210-67-P